DEPARTMENT OF HOUSING AND URBAN DEVELOPMENT

[Docket No. FR-5383-N-16]

Notice of Submission of Proposed Information Collection to OMB; Certification of Domestic Violence, Dating Violence, or Stalking

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: November 15, 2010.

ADDRESSES: Interested persons are invited to submit comments regarding this proposal. Comments should refer to the proposal by name/or OMB Control number and should be sent to: Leroy McKinney, Jr., Departmental Reports Management Officer, QDAM, Department of Housing and Urban Development, 451 7th Street, SW., Room 4178, Washington, DC 20410-5000; telephone 202-402-5564, (this is not a toll-free number) or e-mail Mr. McKinney at Leroy.McKinneyJr@hud.gov. Persons with hearing or speech impairments may access this number through TTY by calling the toll-free Federal Information Relay Service at 800-877-8339. (Other than the HUD USER information line and TTY numbers, telephone numbers are not toll-free.)

FOR FURTHER INFORMATION CONTACT: Dacia Rogers, Office of Policy, Programs and Legislative Initiatives, PIH, Department of Housing and Urban Development, 451 7th Street, SW., Room 4116, Washington, DC 20410; telephone 202-402-3374, (this is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Certification of Domestic Violence, Dating Violence, or Stalking.

OMB Control Number: 2577-0249.

Description of Information Collection: This is a request for information collection that may be used in response to an incident or incidents of actual or threatened domestic violence, dating violence or stalking that may affect an individual's participation in the Section 8 or public housing programs. When an individual presents a PHA, owner, or management agency with a claim for protections under the Violence Against Women Act (VAWA), the PHA, owner, or management agency may (but is not required to) to request that the individual complete, sign and submit within 14 business days of the request, a HUD approved certification form, or alternate documentation as described on the certification form, to document the domestic violence, dating violence, or stalking. The PHA's, owner's, or management agency's request for documentation must be made in writing. On the certification form, the individual certifies that he/she is a victim of domestic violence, dating violence, or stalking, and that the incident or incidences in question are bona fide incidences of such actual or threatened abuse. On the certification form, the individual must provide the name of the perpetrator.

PHAs are instructed that the delivery of the certification form to the tenant in response to incident via mail may place the victim at risk, e.g., the abuser may monitor the mail; consequently, PHAs, owners and managers may require that the tenant come into the office to pick up the certification form. PHAs and owners are also encouraged to work with tenants to make delivery arrangements that do not place the tenant at risk.

If the PHA, owner, or management agent provides the individual with a written request for documentation of the abuse, and the individual does not provide the certification form, or alternate documentation as described on the certification form, within 14 business days from the date of receipt of the PHA's, owner's, or management agent's written request (or after any extension of that date provided by the PHA, owner or management agent), none of the protections afforded to the victim of domestic violence, dating violence or stalking by sections 606 or 607 will apply. The PHA, owner, or management agent would therefore be free to evict, or terminate assistance, in the circumstances authorized by otherwise applicable law and lease provisions, without regard to the amendments made by section 606 and 607.

Agency Form Numbers, if applicable: HUD-50066.

Members of Affected Public: Public Housing Authorities (PHAs), Owners, and Management Agents participating in the public housing and Section 8 Housing Choice Voucher programs.

Estimation of the total numbers of hours needed to prepare the information collection including number of respondents, frequency of responses, and hours of response: An estimation of the total number of hours needed to prepare the information collection is 60 minutes per applicant. The estimated number of respondents is 200. The frequency of response is once. The total public burden is estimated to be 200 hours.

Status of the Information Collection: Revision of a currently approved collection.

Authority: Section 3506 of the Paperwork Reduction Act of 1995, 44 U.S.C. Chapter 35, as amended.

Dated: August 20, 2010.
Merrie Nichols-Dixon,
Acting Deputy Assistant, Secretary for Policy, Program and Legislative Initiatives.

[FR Doc. 2010-22920 Filed 9-14-10; 8:45 am]

BILLING CODE 4210-67-P